DEPARTMENT OF ENERGY

Federal Energy Regulatory Commission

[Project No. 5-098]

Confederated Salish and Kootenai Tribes, Energy Keepers, Incorporated; Notice of Application for Partial Transfer of License and Co-Licensee Status and Soliciting Comments, Motions To Intervene, and Protests

On April 14, 2015, the Confederated Salish and Kootenai Tribes (transferor or co-licensee or CSKT) and Energy Keepers, Incorporated (transferee or EKI) filed an application for a partial transfer of license and co-licensee status of the Kerr Hydroelectric Project, FERC No. 5, located on the Flathead River and Flathead Creek in Flathead Lake County, Montana.

The transferor and transferee seek Commission approval to partially transfer the license for the Kerr Hydroelectric Project from NorthWestern Corporation and Confederated Salish and Kootenai Tribes as co-licensees to Confederated Salish and Kootenai Tribes and Northwestern and add the transferee as a co-licensee. The transfer application was filed by CSKT and EKI. Northwestern specially joined the application and does not dispute the representations made by CSKT and/or EKI, concerning: (1) The legal or financial status of either CSKT or EKI; or (2) the organizational structure, staffing or proposed operations by either CSKT or EKI.

Applicant Contacts: For Transferors: Rhonda Swaney, Confederated Salish and Kootenai Tribes, P.O. Box 278, Pablo, MT 59855, Phone: 406-675-2700, Email: rhondas@cskt.org; John K. Tabaracci, Corporate Counsel, NorthWestern Corporation, 208 North Montana Avenue, Suite, 205, Helena, MT 59601, Phone: 406-443-8983, Email: john.tabaracci@northwestern.com; Matthew A. Love, Van Ness Feldman, LLP, 719 Second Avenue, Suite 1150, Seattle, WA 98104, Phone: 206-623-9372, Email: mal@vnf.com. For Transferee: Joe Hovenkotter, Energy Keepers, Inc., 110 Main Street, Suite 304, Polson, MT 59860, Phone: 406-883-1113, Email: joe.hovenkotter@energykeepersinc.com; Gary D. Bachman, Van Ness Feldman, LLP, 1050 Thomas Jefferson Street NW., Seventh Floor, Washington, DC 20007, Phone: 202-298-1880, Email: gdb@vnf.com.

FERC Contact: Patricia W. Gillis, (202) 502-8735.

Deadline for filing comments and motions to intervene: 30 days from the issuance date of this notice, by the Commission. The Commission strongly encourages electronic filing. Please file motions to intervene and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-5-098.

Dated: April 28, 2015.
Kimberly D. Bose,
Secretary.

[FR Doc. 2015-11411 Filed 5-11-15; 8:45 am]

BILLING CODE 6717-01-P